DEPARTMENT OF DEFENSE

Department of the Army, Corps of Engineers

Intent To Prepare a Draft Environmental Impact Statement and Feasibility Report for the Caño Martín Peña Ecosystem Restoration, San Juan, PR

AGENCY: Department of the Army, U.S. Army Corps of Engineers, DoD.

ACTION: Notice of Intent.

SUMMARY: The Jacksonville District, U.S. Army Corps of Engineers (Corps) intends to prepare a Draft Environmental Impact Statement (DEIS) and Feasibility Report (FR) for the ecosystem restoration of the Caño Martín Peña (CMP) within the San Juan Bay National Estuary (SJBE), San Juan, Puerto Rico. The CMP Ecosystem Restoration Project consists of (a) dredging approximately 825,200 cubic yards of sediments and debris in 2.2 miles of the eastern segment of the CMP, from the San José Lagoon westbound to the Enrique Martí Coll Linal Park pedestrian bridge; and, (b) installing sheet piles along north and south of the CMP. Additional features include, among others, a mangrove restoration project along the CMP, formal public spaces for recreation and interaction between the communities, visitors and the CMP identified as water plazas, and a mangrove restoration project at the Suárez Canal. The project is a cooperative effort between the Corps and the non-Federal sponsor Corporación del Proyecto ENLACE del Caño Martín Peña (ENLACE).

ADDRESSES: U.S. Army Corps of Engineers, Jacksonville District, Planning Division, Environmental Branch, P.O. Box 4970, Jacksonville, FL 32232-0019.

FOR FURTHER INFORMATION CONTACT: Wilberto Cubero by email at martinpena@usace.army.mil or by telephone at (904) 232-2050.

SUPPLEMENTARY INFORMATION: These DEIS and FR will be prepared under the provisions of the Memorandum for Commander, South Atlantic Division (CESAD-PM) Implementation Guidance for Section 5127 of the Water Resources Development Act of 2007 (WRDA 2007)—Caño Martín Peña, San Juan, Puerto Rico dated October 27, 2008. A Reconnaissance Report completed in June 2004 by the Corps, concluded that there is justification to continue into more detailed investigation and that there was strong Federal interest in proceeding to the feasibility phase.

Background: The CMP is a tidal channel 3.75 miles long in metropolitan San Juan, Puerto Rico and one of eight interconnected bodies of water within the SJBE, the only tropical estuary in the U.S. Environmental Protection Agency (EPA) National Estuary Program (NEP). The SJBE interior coastal lagoons and tidal channels are connected to the Atlantic Ocean at both ends. Extending from east to west through eight densely populated impoverished communities in San Juan, the CMP connects the San Juan Bay with the San José and Los Corozos Lagoons, which are further connected by the Suárez Canal to La Torrecilla Lagoon and the Atlantic Ocean. The drainage area of the CMP comprises about 2,500 acres. Historically, the CMP had an average width of approximately 200 feet and a depth between 6 to 8 feet and provided tidal exchange between San Juan Bay and San José Lagoon. The CMP's ability to convey flows has been almost completely blocked as a result of siltation, accumulation of household and construction debris, and encroachment of housing and other structures, thus affecting the habitat functional value and water quality in both the CMP and San José Lagoon. Water quality has been affected by the lack of sewer systems and proper trash collection in neighboring areas. The study area is the SJBE and the detailed project area is the eastern half of the CMP from the Enrique Martí Coll pedestrian bridge eastward, the San José and Los Corozos Lagoons, and the western half of the Suárez Canal.

Purpose: The purpose of this project is to restore the hydraulic connection and tidal exchange between the San José Lagoon and the San Juan Bay, and thus, in the SJBE. The dredging of 2.2 miles of the CMP will restore and improve habitat functional value and water quality in both the CMP and San José Lagoon, and significantly enhance the fish and wildlife habitats and water quality of the entire SJBE, thus achieving ecological uplift. The tidal restoration will achieve viable, healthy, diverse, and sustainable conditions that are necessary to support life. The project will also improve the quality of life of approximately 26,000 residents along the CMP, addressing health and safety concerns. As ancillary benefits, the project will reduce the risk of flooding, and promote recreation and tourism, with minimal temporary negative impact on the ecosystem and the adjacent communities. It will create new economic development opportunities for the San Juan Metropolitan Area and Puerto Rico, while contributing to the protection of crucial port and airport facilities. The Project responds to one of the most significant ecosystem restoration and environmental justice efforts in Puerto Rico.

Alternatives: The restoration of the CMP will occur within the Public Domain lands associated with the CMP Maritime Terrestrial Zone, as per Commonwealth Law 489 of September 24, 2004. The alternative interventions within the restoration area include no action, rectangular section 100 feet wide x 10 feet deep channel width with earth bottom and sheet piles; hybrid section 100 feet x 10 feet channel width with earth bottom and sheet piles in some areas and slopes in others; rectangular section 75 feet wide x 10 feet deep channel with articulated cement bottom and sheet piles; and hybrid section 75 feet wide x 10 feet deep canal with articulated cement bottom and sheet piles in some areas and slopes in others.

All the alternatives may restore open water resources and improve the wetland and benthic habitat functional value. The Corps will consider other project measures such as in-bay sediment disposal and the relocation of infrastructure.

Issues: The DEIS will consider impacts on benthic communities, protected species, public health and safety, water quality, aesthetics and recreation, fish and wildlife resources, cultural resources, conservation resources, environmental justice, and other impacts identified through scoping, public involvement and interagency coordination.

Scoping: Scoping has been conducted by ENLACE, the non-Federal sponsor and leading local expert, over the past 10 years. ENLACE conducted a scoping meeting and interagency review in 2003, and created varied mechanisms to ensure continued participation of all concerned parties. The scoping process has involved federal, state, and municipal agencies, residents along the CMP, as well as other interested persons and organizations.

Public Involvement: We invite the participation of affected federal, state and local agencies, and other interested private organizations and individuals. There will be a public meeting on the DEIS following its preparation. The exact location, date, and time of the public meeting will be announced in a public notice and local newspapers.

Coordination: The proposed action is being coordinated with the U.S. Fish and Wildlife Service (FWS) [under Section 7 of the Endangered Species Act and the Fish and Wildlife Coordination Act] and with the National Marine Fisheries Service [under Magnuson-Stevens Fishery Conservation and Management Act (on Essential Fish Habitat)] and Section 7 of the Endangered Species Act. The proposed action is also being coordinated with the Puerto Rico State Historic Preservation Office and the U.S. Environmental Protection Agency.

Other Environmental Review and Consultation: The proposed action would involve evaluation for compliance with guidelines pursuant to Section 404(b)(1) of the Clean Water Act, water quality certification (application to the Puerto Rico Environmental Quality Board) pursuant to Section 401 of the Clean Water Act, certification of state lands, easements, and rights-of-way, and determination of Coastal Zone Management Act Consistency.

Agency Role: As the cooperating agency, non-Federal sponsor and leading local expert, ENLACE will provide information and assistance on the resources to be impacted and construction mitigation measures and alternatives. Additionally, other agencies with either regulatory authority or special expertise have been incorporated and are participating in an interagency Technical Dredge Committee coordinated by ENLACE. These agencies may be called upon in preparation of the DEIS.

DEIS Preparation: It is anticipated that the DEIS will be available for public review in the 3rd quarter of 2013.

Dated: November 2, 2012.
Eric P. Summa,
Chief, Environmental Branch.

[FR Doc. 2012-27752 Filed 11-15-12; 8:45 am]

BILLING CODE 3720-58-P